DEPARTMENT OF ENERGY

Federal Energy Regulatory Commission

Combined Notice of Filings

Take notice that the Commission has received the following Natural Gas Pipeline Rate and Refund Report filings:

Filings Instituting Proceedings

Docket Numbers: RP12-317-000.

Applicants: Tennessee Gas Pipeline Company, L.L.C.

Description: Volume No. 2—Point Changes CT Natural & Berkshire Gas to be effective 12/14/2011.

Filed Date: 1/17/12.

Accession Number: 20120117-5211.

Comments Due: 5 p.m. ET 1/30/12.

Docket Numbers: RP12-318-000.

Applicants: Texas Eastern Transmission, LP.

Description: Modification to FTS-5 Service Agreement to be effective 2/19/2012 under RP12-318 Filing Type: 570.

Filed Date: 1/19/12.

Accession Number: 20120119-5105.

Comments Due: 5 p.m. ET 1/31/12.

Docket Numbers: RP12-319-000.

Applicants: Wyoming Interstate Company, L.L.C.

Description: Request for Limited Waiver for Capacity Release Program—Execution of Agreements or Amendments of Wyoming Interstate Company, L.L.C.

Filed Date: 1/19/12.

Accession Number: 20120119-5152.

Comments Due: 5 p.m. ET 1/31/12.

Docket Numbers: RP12-320-000.

Applicants: Transwestern Pipeline Company, LLC.

Description: 2012 TW Change to Form of Service Agreement Filing, to be effective 2/21/2012.

Filed Date: 1/19/12.

Accession Number: 20120119-5188.

Comments Due: 5 p.m. ET 1/31/12.

Docket Numbers: RP12-321-000.

Applicants: Colorado Interstate Gas Company LLC.

Description: Totem ADIQ Curve Update to be effective 2/20/2012.

Filed Date: 1/19/12.

Accession Number: 20120119-5236.

Comments Due: 5 p.m. ET 1/31/12.

Docket Numbers: RP12-322-000.

Applicants: Gulf Crossing Pipeline Company LLC.

Description: Cost and Revenue Study in compliance with CP07-398-000 et al. to be effective N/A.

Filed Date: 1/20/12.

Accession Number: 20120120-5025.

Comments Due: 5 p.m. ET 2/1/12.

Docket Numbers: RP12-323-000.

Applicants: TWP Pipeline LLC.

Description: Negotiated Rate Compliance Filing to be effective 5/24/2011.

Filed Date: 1/23/12.

Accession Number: 20120123-5096.

Comments Due: 5 p.m. ET 2/6/12.

Docket Numbers: RP12-324-000.

Applicants: Natural Gas Pipeline Company of America LLC.

Description: EDF Trading—Negotiated Rate to be effective 1/23/2012.

Filed Date: 1/23/12.

Accession Number: 20120123-5265.

Comments Due: 5 p.m. ET 2/6/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP11-2361-001.

Applicants: Black Marlin Pipeline Company.

Description: NAESB v 1.9-Fourth Compliance Filing to be effective 11/1/2010.

Filed Date: 1/20/12.

Accession Number: 20120120-5035.

Comments Due: 5 p.m. ET 2/1/12.

Docket Numbers: RP11-2449-002.

Applicants: Portland Natural Gas Transmission System.

Description: Compliance to RP11-2449-001 to be effective N/A.

Filed Date: 1/20/12.

Accession Number: 20120120-5043.

Comments Due: 5 p.m. ET 2/1/12.

Docket Numbers: RP12-318-001.

Applicants: Texas Eastern Transmission, LP.

Description: Amendment to FTS-5 Service Agreement Modification Filing to be effective 2/19/2012.

Filed Date: 1/20/12.

Accession Number: 20120120-5017.

Comments Due: 5 p.m. ET 2/1/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: January 24, 2012.
Nathaniel J. Davis, Sr.,
Deputy Secretary.

[FR Doc. 2012-2154 Filed 1-31-12; 8:45 am]

BILLING CODE 6717-01-P